DEPARTMENT OF COMMERCE

International Trade Administration

A-421-811

Purified Carboxymethylcellulose from the Netherlands: Rescission of Antidumping Duty Administrative Review in Part

AGENCY: Import Administration, International Trade Administration, Department of Commerce.

SUMMARY: In response to a request from petitioner Aqualon Company, a division of Hercules Incorporated (“Aqualon”), a U.S. manufacturer of carboxymethylcellulose (“CMC”), the Department of Commerce (“the Department”) initiated an administrative review of the antidumping duty order on CMC from the Netherlands. See Initiation of Antidumping and Countervailing Duty Administrative Reviews and Requests for Revocation in Part, 71 FR 51573 (August 30, 2006). This administrative review covers the period December 27, 2004, through June 30, 2006. We are now rescinding this review with respect to Akzo Nobel Surface Chemistry BV and Akzo Nobel Functional Chemicals B.V. (collectively, “Akzo”) due to the withdrawal of Aqualon's review request with respect to Akzo.¹

¹ The Department notes that this administrative review will continue with respect to CP Kelco BV and Noviant BV.

EFFECTIVE DATE: March 13, 2007.

FOR FURTHER INFORMATION CONTACT: Dena Crossland or Stephen Bailey, AD/CVD Operations, Office 7, Import Administration, International Trade Administration, U.S. Department of Commerce, 14th Street and Constitution Avenue, NW, Room 7866, Washington, DC 20230; telephone: (202) 482-3362 or (202) 482-0193, respectively.

SUPPLEMENTARY INFORMATION:

Background

The Department published an antidumping duty order on CMC from the Netherlands on July 11, 2005. See Notice of Antidumping Duty Orders: Purified Carboxymethylcellulose from Finland, Mexico, the Netherlands and Sweden, 70 FR 39734 (July 11, 2005). The Department published a notice of “Opportunity to Request an Administrative Review” of the antidumping duty order for the period December 27, 2004, through June 30, 2006, on July 3, 2006. See 71 FR 37890. Petitioner Aqualon requested that the Department conduct an administrative review of the antidumping duty order on CMC from the Netherlands on July 27, 2006. In response to this request from petitioner, the Department published the initiation of the antidumping duty administrative review on CMC from the Netherlands on August 30, 2006. See 71 FR 51573. The Department received petitioner's request for withdrawal of the administrative review with respect to Akzo on February 15, 2007.

Rescission of the Administrative Review

Pursuant to 19 C.F.R. § 351.213(d)(1), the Secretary will rescind an administrative review under this section, in whole or in part, if a party that requested a review withdraws the request within 90 days of the date of publication of notice of initiation of the requested review, or withdraws at a later date if the Department determines it is reasonable to extend the time limit for withdrawing the request. Petitioner's request is past the 90-day time limit; however, we find that it is reasonable to extend the deadline because the Department has not yet devoted significant time or resources to this review. In response to petitioner's withdrawal of its request for an administrative review, as well as the fact that we have not yet issued preliminary results, the Department hereby rescinds the administrative review of the antidumping duty order on CMC from the Netherlands for the period December 27, 2004, through June 30, 2006, with respect to Akzo.

The Department intends to issue appropriate assessment instructions to Customs and Border Protection 15 days after the date of the publication of this notice. The Department will direct CBP to assess antidumping duties for Akzo at the cash deposit rate in effect on the date of entry for entries during the period December 27, 2004, through June 30, 2006.

This notice serves as a reminder to parties subject to administrative protective order (“APO”) of their responsibility concerning the disposition of proprietary information disclosed under APO in accordance with 19 C.F.R. § 351.305(a)(3). Timely written notification of the return or destruction of APO materials or conversion to judicial protective order is hereby requested. Failure to comply with the regulations and terms of an APO is a sanctionable violation.

This notice is published in accordance with sections 751(a)(1) and 777(i)(1) of the Tariff Act of 1930, as amended, and 19 C.F.R. § 351.213(d)(4).

Dated: March 5, 2007.
Stephen J. Claeys,
Deputy Assistant Secretary for Import Administration.

[FR Doc. E7-4497 Filed 3-12-07; 8:45 am]

BILLING CODE 3510-DS-S